OFFICE OF THE UNITED STATES TRADE REPRESENTATIVE

Determination of Trade Surplus in Certain Sugar and Syrup Goods and Sugar Containing Products of Chile, Morocco, the Dominican Republic, El Salvador, Guatemala, Honduras, and Nicaragua; Correction

AGENCY: USTR.

ACTION: Notice; correction.

SUMMARY: The Office of the United States Trade Representative published a document in the Federal Register of December 5, 2008 concerning the determination of the trade surplus in certain sugar and syrup goods and sugar containing products of Chile, Morocco, the Dominican Republic, El Salvador, Guatemala, Honduras and Nicaragua. The document contained incorrect data.

Correction to Previous Notice

In the Federal Register of December 5, 2008, Volume 73, Page 74210, the Office of the United States Trade Representative published a notice entitled “Determination of Trade Surplus in Certain Sugar and Syrup Goods and Sugar Containing Products of Chile, Morocco, the Dominican Republic, El Salvador, Guatemala, Honduras, and Nicaragua.” A correction is being made to the information with regard to the Dominican Republic at the top of the first column on page 74212. The calendar year to which the trade surplus determination applies is incorrect for the Dominican Republic. The correct figure is CY2009, rather than CY2008. All other information remains unchanged and will not be repeated in this correction.

FOR FURTHER INFORMATION CONTACT: Leslie O'Connor, Office of Agricultural Affairs, telephone: 202-395-6127 or facsimile: 202-395-4579.

Leslie C. O'Connor,
Director, Agricultural Affairs.

[FR Doc. E8-30507 Filed 12-22-08; 8:45 am]

BILLING CODE 3190-W9-P